DEPARTMENT OF COMMERCE

Census Bureau

Proposed Information Collection; Comment Request; Current Population Survey (CPS) Email Address Collection Test Supplement

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 30, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Kyra Linse, U.S. Census Bureau, DSD/CPS HQ-7H108F, Washington, DC 20233-8400, (301) 763-9280.

SUPPLEMENTARY INFORMATION:

I. Abstract

The Census Bureau plans to request clearance for the collection of data concerning the November 2013 Email Address Collection Test Supplement. The Census Bureau and the Bureau of Labor Statistics (BLS) sponsor the CPS which has been conducted for over 70 years.

The Current Population Survey (CPS) has been collecting data on household employment for decades. Through the years, it has made survey improvements to keep the data quality and survey response rates high. Over the last few years, CPS, like many surveys, has seen response rates declining slowly. A review of paradata has found one of the main reasons for this decline is not just refusals but also respondent avoidance (i.e. the interviewers are unable to make contact with the respondent). This has led to an effort to think of new ways to contact respondents and reduce respondent burden so that they may be more likely to answer CPS over the many months needed.

One of the solutions recommended has been to research the possibility of using the Internet as a data collection mode as well as a tool to help increase response rates. We foresee that in the future, we could collect email addresses from our respondents. For those that are eligible, we could then send an email to the respondent with a secure link in order for that respondent to complete the CPS the next month over the internet and in turn, keep up response rates while lowering costs of interviewing. Internet is not limited to just a survey data collection mode. These emails could be used for other contacts as well. We could allow the respondent to set up a time to meet with the interviewer at their convenience and save on travel costs associated with the multiple personal visits. The email could also be as simple as a “Thank You” with information that lets respondents know their participation is improving the quality of our data.

This supplement is the first step in the review of the feasibility of this plan. It will test the ability of collecting email addresses and collecting interest in being contacted by email or answering the survey through the internet for possible future enhancements to CPS.

II. Method of Collection

The email address collection will be collected by both personal visit and telephone interviews in conjunction with the regular November CPS interviewing. All interviews are conducted using computer-assisted interviewing.

III. Data

OMB Control Number: None.

Form Number: There are no forms. We conduct all interviews on computers.

Type of Review: Regular submission.

Affected Public: Households.

Estimated Number of Respondents: 29,500.

Estimated Time per Response: 3 minutes.

Estimated Total Annual Burden Hours: 1,475.

Estimated Total Annual Cost: The only cost to the respondents is that of their time.

Respondents Obligation: Voluntary.

Legal Authority: Title 13 U.S.C. 182, and Title 29, U.S.C., 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 24, 2013.
Gwellnar Banks,
Management Analyst, Office of the Chief Information Officer.

[FR Doc. 2013-18204 Filed 7-29-13; 8:45 am]

BILLING CODE 3510-07-P